DEPARTMENT OF TRANSPORTATION

Federal Aviation Administration

14 CFR Part 71

[Docket No. FAA-2021-0632; Airspace Docket No. 21-ASW-11]

RIN 2120-AA66

Amendment of J-8 and V-140, and Establishment of T-422 in the Vicinity of Kingfisher, OK

AGENCY: Federal Aviation Administration (FAA), DOT.

ACTION: Final rule.

SUMMARY: This action amends Jet Route J-8 and VHF Omnidirectional Range (VOR) Federal airway V-140, and establishes Area Navigation (RNAV) route T-422 in the vicinity of Kingfisher, OK. The Air Traffic Service (ATS) route modifications are necessary due to the planned decommissioning of the VOR portion of the Kingfisher, OK, VOR/Tactical Air Navigation (VORTAC) navigational aid (NAVAID) which provides navigational guidance for portions of J-8 and V-140. The VOR portion of the VORTAC is being decommissioned as part of the FAA's VOR Minimum Operational Network (MON) program.

DATES: Effective date 0901 UTC, July 14, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Policy Directorate, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the National Airspace System.

History

The FAA published a notice of proposed rulemaking for Docket No. FAA-2021-0632 in the Federal Register (86 FR 44671; August 13, 2021), amending Jet Route J-8 and VOR Federal airway V-140, and establishing RNAV route T-422 in the vicinity of Kingfisher, OK. The proposed actions were due to the planned decommissioning of the VOR portion of the Kingfisher, OK, VORTAC NAVAID. Interested parties were invited to participate in this rulemaking effort by submitting written comments on the proposal. No comments were received.

Jet routes are published in paragraph 2004, VOR Federal airways are published in paragraph 6010(a), and United States RNAV T-routes are published in paragraph 6011 of FAA Order JO 7400.11F, dated August 10, 2021, and effective September 15, 2021, which is incorporated by reference in 14 CFR 71.1. The ATS routes listed in this document will be published subsequently in FAA Order JO 7400.11.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

The Rule

The FAA is amending 14 CFR part 71 to modify Jet Route J-8 and VOR Federal airway V-140, and establish RNAV route T-422. The decommissioning of the VOR portion of the Kingfisher, OK, VORTAC has made this action necessary.

The ATS route actions are outlined below.

J-8: J-8 extends between the Needles, CA, VORTAC and the Casanova, VA, VORTAC. The route segment overlying the Kingfisher, OK, VORTAC between the Borger, TX, VORTAC and the Springfield, MO, VORTAC is removed. The unaffected portions of the existing route remain as charted.

V-140: V-140 extends between the Panhandle, TX, VORTAC and the London, KY, VOR/Distance Measuring Equipment (VOR/DME); and between the Bluefield, WV, VOR/DME and the Casanova, VA, VORTAC. The airway segment overlying the Kingfisher, OK, VORTAC between the Burns Flat, OK, VORTAC and the Tulsa, OK, VORTAC is removed. The unaffected portions of the existing airway remain as charted.

T-422: T-422 is a new route that extends between the Panhandle, TX, VORTAC and the Tulsa, OK, VORTAC. This RNAV route mitigates the removal of the V-140 airway segment between the Burns Flat, OK, VORTAC and the Tulsa, OK, VORTAC (above) and provides RNAV routing capability between the Amarillo, TX, area and the Tulsa, OK, area.

The NAVAID radials listed in the ATS route descriptions below are unchanged and stated in True degrees.

FAA Order JO 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action of modifying Jet Route J-8 and VOR Federal airway V-140, and establishing RNAV route T-422, due to the planned decommissioning of the VOR portion of the Kingfisher, OK, VORTAC NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 2004 Jet Routes.

* * * * *

J-8 [Amended]

From Needles, CA; Flagstaff, AZ; Gallup, NM; Fort Union, NM; to Borger, TX. From Springfield, MO; St Louis, MO; Louisville, KY; Charleston, WV; INT Charleston 092° and Casanova, VA, 253° radials; to Casanova.

* * * * *

Paragraph 6010(a) Domestic VOR Federal airways.

* * * * *

V-140 [Amended]

From Panhandle, TX; to Burns Flat, OK. From Tulsa, OK; Razorback, AR; Harrison, AR; Walnut Ridge, AR; Dyersburg, TN; Nashville, TN; Livingston, TN; to London, KY. From Bluefield, WV; INT Bluefield 071° and Montebello, VA, 250° radials; Montebello; to Casanova, VA.

* * * * *

Paragraph 6011 United States Area Navigation Routes.

* * * * *

T-422 Panhandle, TX (PNH) to Tulsa, OK (TUL) [New]
Panhandle, TX (PNH) | VORTAC | (Lat. 35°14′06.22″ N, long. 101°41′56.51″ W)
Burns Flat, OK (BFV) | VORTAC | (Lat. 35°14′13.00″ N, long. 099°12′22.20″ W)
BISKT, OK | WP | (Lat. 35°48′18.66″ N, long. 098°00′14.73″ W)
LASTS, OK | FIX | (Lat. 35°59′45.23″ N, long. 097°16′24.76″ W)
GULLI, OK | FIX | (Lat. 36°00′43.02″ N, long. 097°08′39.63″ W)
Tulsa, OK (TUL) | VORTAC | (Lat. 36°11′46.51″ N, long. 095°47′17.13″ W)

Issued in Washington, DC, on April 21, 2022.
Scott M. Rosenbloom,
Manager, Airspace Rules and Regulations.

[FR Doc. 2022-08896 Filed 4-26-22; 8:45 am]

BILLING CODE 4910-13-P